DEPARTMENT OF COMMERCE

International Trade Administration

[A-570-831]

Fresh Garlic From the People's Republic of China: Final Results and Final Rescission, In Part, of the 26th Antidumping Duty Administrative Review; 2019-2020

AGENCY: Enforcement and Compliance, International Trade Administration, Department of Commerce.

SUMMARY: The Department of Commerce (Commerce) has completed its administrative review of the antidumping duty order on fresh garlic from the People's Republic of China (China) for the period of review (POR) November 1, 2019, through October 31, 2020. We determine that mandatory respondent, Jining Shunchang Import & Export Co., Ltd. (Shunchang) failed to establish its eligibility for a separate rate and, therefore, is part of the China-wide entity. We are rescinding the review with respect to Zhengzhou Harmoni Spice Co., Ltd. (Harmoni).

DATES: Applicable March 23, 2022.

FOR FURTHER INFORMATION CONTACT: Jacob Saude, AD/CVD Operations, Office VII, Enforcement and Compliance, International Trade Administration, U.S. Department of Commerce, 1401 Constitution Avenue NW, Washington, DC 20230; telephone: (202) 482-0981.

SUPPLEMENTARY INFORMATION:

Background

On November 30, 2021, Commerce published the preliminary results of the twenty-sixth administrative review of fresh garlic from China.¹ No interested party submitted comments concerning the Preliminary Results or requested that a hearing be held. Commerce conducted this administrative review in accordance with section 751 of the Tariff Act of 1930, as amended (the Act). The current deadline for the final results is March 30, 2022.

¹ See Fresh Garlic from the People's Republic of China: Preliminary Results, Preliminary Rescission, and Final Rescission, In Part, of the 26th Antidumping Duty Administrative Review; 2019-2020, 86 FR 67911 (November 30, 2021) (Preliminary Results), and accompanying Preliminary Decision Memorandum.

Scope of the Order

The products subject to the order are all grades of garlic, whole or separated into constituent cloves, whether or not peeled, fresh, chilled, frozen, provisionally preserved, or packed in water or other neutral substance, but not prepared or preserved by the addition of other ingredients or heat processing. The differences between grades are based on color, size, sheathing, and level of decay. The scope of the order does not include the following: (a) Garlic that has been mechanically harvested and that is primarily, but not exclusively, destined for non-fresh use; or (b) garlic that has been specially prepared and cultivated prior to planting and then harvested and otherwise prepared for use as seed. The subject merchandise is used principally as a food product and for seasoning. The subject garlic is currently classifiable under subheadings: 0703.20.0000, 0703.20.0005, 0703.20.0010, 0703.20.0015, 0703.20.0020, 0703.20.0090, 0710.80.7060, 0710.80.9750, 0711.90.6000, 0711.90.6500, 2005.90.9500, 2005.90.9700, and 2005.99.9700, of the Harmonized Tariff Schedule of the United States (HTSUS).

Although the HTSUS subheadings are provided for convenience and customs purposes, the written description of the scope of the order is dispositive. In order to be excluded from the order, garlic entered under the HTSUS subheadings listed above that is: (1) Mechanically harvested and primarily, but not exclusively, destined for nonfresh use; or (2) specially prepared and cultivated prior to planting and then harvested and otherwise prepared for use as seed must be accompanied by declarations to U.S. Customs and Border Protection (CBP) to that effect.

Final Partial Rescission of Administrative Review

In the Preliminary Results, Commerce determined that the review request from Roots Farm for Harmoni was invalid ab initio, and it preliminarily rescinded the administrative review with respect to Harmoni. Because Commerce did not receive any comments on its preliminary finding, Commerce continues to find that the review request from Roots Farm was invalid ab initio, and Commerce is rescinding this review with respect to Harmoni.

China-Wide Entity

Commerce's policy regarding conditional review of the China-wide entity applies to this administrative review.² Under this policy, the China-wide entity will not be under review unless a party specifically requests, or Commerce self-initiates, a review of the entity. Because no party requested a review of the China-wide entity in this review, and Commerce did not self-initiate a review, the entity is not under review and the entity's rate (i.e., $4.71/kg) is not subject to change. Aside from the companies for which the review has been or is being rescinded, Commerce considers all other companies for which a review was requested, and which did not preliminarily qualify for a separate rate, to be part of the China-wide entity.

² See Antidumping Proceedings: Announcement of Change in Department Practice for Respondent Selection in Antidumping Duty Proceedings and Conditional Review of the Nonmarket Economy Entity in NME Antidumping Duty Proceedings, 78 FR 65963 (November 4, 2013).

Final Results of Administrative Review

Commerce determines that the following weighted-average dumping margin exists for the administrative review covering the period November 1, 2019, through October 31, 2020:

Exporter | Weighted-average margin (dollars per kilogram)
China-Wide Entity ³ | 4.71

Assessment Rates

³ The companies that are part of the China-wide entity in this review are Jining Shunchang Import & Export Co., Ltd. and Jining Shunchang Food Co., Ltd.

Pursuant to section 751(a)(2)(C) of the Act, and 19 CFR 351.212(b), Commerce has determined, and CBP shall assess, antidumping duties on all appropriate entries of subject merchandise in accordance with the final results of this review. Commerce intends to direct CBP to assess rates based on the per-unit (i.e., per kilogram) amount on each entry of the subject merchandise during the POR. Commerce also intends to issue assessment instructions no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date of this notice in the Federal Register, as provided by sections 751(a)(2) of the Act: (1) For the companies identified in the chart above, the cash deposit rate will be the China-wide rate; (2) for previously investigated or reviewed Chinese and non-Chinese exporters not listed above that have received a separate rate in a prior segment of this proceeding, the cash deposit rate will continue to be the exporter-specific rate published for the most recent period; (3) for all Chinese exporters of subject merchandise which have not been found to be entitled to a separate rate, the cash deposit rate will be the China-wide rate of 4.71 U.S. dollars per kilogram; and (4) for all non-Chinese exporters of subject merchandise which have not received their own rate, the cash deposit rate will be the rate applicable to Chinese exporter that supplied that non-Chinese exporter. These requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notifications Regarding Administrative Protection Order

This notice serves as the only reminder to parties subject to administrative protective order (APO) of their responsibility concerning the return or destruction of proprietary information disclosed under APO in accordance with 19 CFR 351.305, which continues to govern business proprietary information in this segment of the proceeding. Timely written notification of return or destruction of APO materials, or conversion to judicial protective order, is hereby requested. Failure to comply with the regulations and the terms of an APO is a sanctionable violation.

Notification to Interested Parties

We are issuing and publishing these final results in accordance with sections 751(a)(1) and 777(i)(1) of the Act and 19 CFR 351.221(b)(5).

Dated: March 14, 2022.
Lisa W. Wang,
Assistant Secretary for Enforcement and Compliance.

[FR Doc. 2022-06076 Filed 3-22-22; 8:45 am]

BILLING CODE 3510-DS-P